DEPARTMENT OF ENERGY

Federal Energy Regulatory Commission

Combined Notice of Filings #1

Take notice that the Commission received the following electric rate filings:

Docket Numbers: ER10-1910-016; ER10-1911-016.

Applicants: Duquesne Light Company, Duquesne Power, LLC.

Description: Notice of Change in Status of the Duquesne MBR Sellers.

Filed Date: 5/17/19.

Accession Number: 20190517-5202.

Comments Due: 5 p.m. ET 6/7/19.

Docket Numbers: ER10-2527-008; ER10-1821-019; ER10-2400-012; ER10-2405-007; ER10-2414-010; ER10-2528-004; ER10-2529-004; ER10-2530-005; ER10-2531-009; ER10-2532-014; ER10-2533-008; ER10-2534-005; ER10-2535-010; ER10-2839-006; ER10-3097-008; ER11-4475-012; ER19-1044-001.

Applicants: Midland Cogeneration Venture Limited Partnership, Allegheny Ridge Wind Farm, LLC, Aragonne Wind LLC, Blue Canyon Windpower LLC, Buena Vista Energy, LLC, Caprock Wind LLC, Cedar Creek Wind Energy, LLC, Crescent Ridge LLC, Goshen Phase II LLC, GSG, LLC, Kumeyaay Wind LLC, Mendota Hills, LLC, Rockland Wind Farm LLC, High Prairie Wind Farm II LLC, Old Trail Wind Farm, LLC, Telocaset Wind Power Partners, LLC, Bruce Power Inc.

Description: Notice of Non-Material Change in Status of Allegheny Ridge Wind Farm, LLC, et al.

Filed Date: 5/17/19.

Accession Number: 20190517-5218.

Comments Due: 5 p.m. ET 6/7/19.

Docket Numbers: ER17-2059-003.

Applicants: Puget Sound Energy, Inc.

Description: Notice of Non-Material Change in Status of Puget Sound Energy, Inc.

Filed Date: 5/17/19.

Accession Number: 20190517-5198.

Comments Due: 5 p.m. ET 6/7/19.

Docket Numbers: ER19-1507-002.

Applicants: Duke Energy Carolinas, LLC.

Description: Compliance filing: Joint OATT LGIP—Order 845 Compliance Filing (Errata) to be effective 5/22/2019.

Filed Date: 5/20/19.

Accession Number: 20190520-5077.

Comments Due: 5 p.m. ET 6/10/19.

Docket Numbers: ER19-1895-000.

Applicants: Midcontinent Independent System Operator, Inc.

Description: § 205(d) Rate Filing: 2019-05-17_SPP-MISO JOA Enhancements to Coordinated System Planning Process to be effective 7/17/2019.

Filed Date: 5/17/19.

Accession Number: 20190517-5182.

Comments Due: 5 p.m. ET 6/7/19.

Docket Numbers: ER19-1896-000.

Applicants: Southwest Power Pool, Inc.

Description: § 205(d) Rate Filing: SPP-MISO JOA Revisions to Enhance Coordinated System Planning Process to be effective 7/17/2019.

Filed Date: 5/17/19.

Accession Number: 20190517-5185.

Comments Due: 5 p.m. ET 6/7/19.

Docket Numbers: ER19-1897-000.

Applicants: Coolidge Power LLC.

Description: Notice of Cancellation of Market-Based Rate Tariff of Coolidge Power LLC.

Filed Date: 5/17/19.

Accession Number: 20190517-5206.

Comments Due: 5 p.m. ET 6/7/19.

Docket Numbers: ER19-1898-000.

Applicants: Southwest Power Pool, Inc.

Description: § 205(d) Rate Filing: Attachment AE Revisions to Enhance MCR Market Design to be effective 12/31/9998.

Filed Date: 5/20/19.

Accession Number: 20190520-5019.

Comments Due: 5 p.m. ET 6/10/19.

Docket Numbers: ER19-1899-000.

Applicants: Mid-Atlantic Interstate Transmission, LLC.

Description: Notice of Cancellation of Generation Facility Transmission Interconnection Agreement (No. 599) of Mid-Atlantic Interstate Transmission, LLC.

Filed Date: 5/17/19.

Accession Number: 20190517-5223.

Comments Due: 5 p.m. ET 6/7/19.

Docket Numbers: ER19-1900-000.

Applicants: Golden Spread Electric Cooperative, Inc.

Description: Compliance filing: OATT Order No. 845 Compliance to be effective 5/20/2019.

Filed Date: 5/20/19.

Accession Number: 20190520-5065.

Comments Due: 5 p.m. ET 6/10/19.

Docket Numbers: ER19-1901-000.

Applicants: Southwest Power Pool, Inc.

Description: § 205(d) Rate Filing: Revisions to Enhance Minimum Daily Contingency Reserve Requirement Calculation to be effective 12/31/9998.

Filed Date: 5/20/19.

Accession Number: 20190520-5079.

Comments Due: 5 p.m. ET 6/10/19.

Docket Numbers: ER19-1902-000.

Applicants: Deseret Generation & Transmission Co-operative, Inc.

Description: Compliance filing: OATT Order No. 845 Compliance to be effective 5/20/2019.

Filed Date: 5/20/19.

Accession Number: 20190520-5090.

Comments Due: 5 p.m. ET 6/10/19.

Docket Numbers: ER19-1903-000.

Applicants: PJM Interconnection, L.L.C.

Description: § 205(d) Rate Filing: Original ISA No. 5380; Queue No. AB1-182 to be effective 4/22/2019.

Filed Date: 5/20/19.

Accession Number: 20190520-5096.

Comments Due: 5 p.m. ET 6/10/19.

Take notice that the Commission received the following electric securities filings:

Docket Numbers: ES19-30-000.

Applicants: GridLiance West LLC.

Description: Application under Section 204 of the Federal Power Act for Authorization to Issue Securities of GridLiance West LLC.

Filed Date: 5/17/19.

Accession Number: 20190517-5203.

Comments Due: 5 p.m. ET 6/7/19.

Take notice that the Commission received the following public utility holding company filings:

Docket Numbers: PH19-11-000.

Applicants: Alberta Investment Management Corporation.

Description: Alberta Investment Management Corporation submits FERC 65-B Waiver Notification.

Filed Date: 5/17/19.

Accession Number: 20190517-5207.

Comments Due: 5 p.m. ET 6/7/19.

Docket Numbers: PH19-12-000.

Applicants: OMERS Administration Corporation.

Description: OMERS Administration Corporation submits FERC 65-B Waiver Notification.

Filed Date: 5/17/19.

Accession Number: 20190517-5222.

Comments Due: 5 p.m. ET 6/7/19.

Take notice that the Commission received the following electric reliability filings:

Docket Numbers: RR19-4-001.

Applicants: North American Electric Reliability Corporation.

Description: Request of the North American Electric Reliability Corporation to Advance Funds from its Operating Contingency Reserves to Support Dissolution of FRCC Inc.'s Regional Entity Division.

Filed Date: 5/16/19.

Accession Number: 20190516-5056.

Comments Due: 5 p.m. ET 5/28/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 20, 2019.
Nathaniel J. Davis, Sr.,
Deputy Secretary.

[FR Doc. 2019-10880 Filed 5-23-19; 8:45 am]

BILLING CODE 6717-01-P